DEPARTMENT OF JUSTICE

Notice of Lodging of Consent Decree Under the Comprehensive Environmental Response, Compensation, and Liability Act of 1980

Notice is hereby given that on May 20, 2004 a proposed Consent Decree in United States v. The City and County of Denver, Waste Management of Colorado, Inc., and Chemical Waste Management, Inc., an action under section 106(b) of the Comprehensive Environmental Response, Compensation, and Liability Act of 1980, 42 U.S.C. 9606(b), was lodged with the United States District Court for the District of Colorado, Case No. 04-N-1031 (MJW).

In this action, the United States sought to recover civil penalties arising from Defendants' failure to comply with EPA's Administrative Order for Remedial Design/Remedial Action, EPA Docket No. CERCLA VIII-95-05, as it pertains to Defendants' implementation of the Landfill Gas Remedy at the Lowry Landfill Superfund Site which is located in Denver, Colorado. Specifically, in its Complaint the United States alleges that on numerous occasions between August 1998 and January 1999, Defendants failed to ensure compliance with Landfill Gas Performance Standards, failed to appropriately report exceedances of the LFGPS, and failed to take prompt action to prevent, abate or minimize the presence of volatile organic compounds (“VOCs”) in the subsurface environment at the Landfill Gas Compliance Boundary as required by the UAO.

The Consent Decree provides that within thirty (30) days of the entry of the Consent Decree, the Defendants shall pay two hundred and sixty-five thousand dollars ($265,000.00) to the United States in satisfaction of the United States civil penalties claims.

The Department of Justice will receive for a period of thirty (30) days from the date of this publication comments relating to the Consent Decree. Comments should be addressed to the Assistant Attorney General, Environment and Natural Resources Division, P.O. Box 7611, U.S. Department of Justice, Washington, DC 20044-7611, and should refer to the United States v. The City and County of Denver, Waste Management of Colorado, Inc., and Chemical Waste Management, Inc., Civil Action No. 04-N-1031 (MJW), DOJ No. 90-11-3-06703.

The Consent Decree may be examined at U.S. EPA Region 8, 999 18th Street, Suite 500, Denver, Colorado, 80202. During the public comment period, the Decree, may also be examined on the following Department of Justice Web site, http://www.usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 payable to the U.S. Treasury.

Robert Brook,
Assistant Chief, Environmental Enforcement Section, Environment and Natural Resources Division.

[FR Doc. 04-13044 Filed 6-8-04; 8:45 am]

BILLING CODE 4410-15-M